ADMINISTRATIVE CONFERENCE OF THE UNITED STATES

Appointment of PRB Members

AGENCY: Administrative Conference of the United States.

ACTION: Notice.

SUMMARY: Notice is given of the appointment of members to the Performance Review Board (PRB) of the Administrative Conference of the United States (ACUS).

DATES: Membership is effective on September 12, 2025.

FOR FURTHER INFORMATION CONTACT: Shawne McGibbon, General Counsel, Administrative Conference of the United States, Suite 706 South, 1120 20th Street NW, Washington, DC 20036; Telephone 202-480-2080.

SUPPLEMENTARY INFORMATION: The Administrative Conference of the United States, as required by 5 U.S.C. 4314(c)(1) through (5), has established a Senior Executive Service PRB. The PRB reviews and evaluates the initial appraisal of a senior executive's performance by the supervising official and makes recommendations regarding performance ratings to the appropriate agency authority regarding performance ratings, performance awards, and pay-for-performance adjustments. Members of the PRB serve for a period of 24 months. In the case of an appraisal of a career appointee, more than half of the members shall consist of career appointees, pursuant to 5 U.S.C. 4314(c)(5). The names and titles of the PRB members are as follows:

• Jeremy Graboyes, Research Director, ACUS;

• Shawne McGibbon, General Counsel, ACUS;

• Harry Seidman, Chief Financial and Operations Officer, ACUS.

The name and title of the alternate PRB member is as follows:

• Nadine Mancini, General Counsel, Occupational Safety and Health Commission.

Dated: September 8, 2025.
Shawne C. McGibbon,
General Counsel.

[FR Doc. 2025-17411 Filed 9-9-25; 8:45 am]

BILLING CODE 6110-01-P